DEPARTMENT OF ENERGY

Federal Energy Regulatory Commission

[Docket Nos. CP06-407-000, CP06-408-000 and CP06-409-000]

Missouri Interstate Gas, LLC; Missouri Gas Company, LLC; Missouri Pipeline Company, LLC; Notice of Applications for Certificates of Public Convenience and Necessity and Abandonment Authorizations

July 6, 2006.

Take notice that on June 28, 2006, Missouri Interstate Gas, LLC (Missouri Interstate), Missouri Gas Company, LLC (Missouri Gas), and Missouri Pipeline Company, LLC (Missouri Pipeline), each located at 110 Algana Court, St. Peters, Missouri, 63376, filed in the above referenced dockets, pursuant to section 7 of the Natural Gas Act (NGA) and Part 157 of the Commission's regulations, several applications for certificates of public convenience and necessity and abandonment authorizations. The applications seek approval to consolidate certain facilities owned by the affiliated companies in order to form a new interstate pipeline to be owned by Missouri Gas, which would be subject to the jurisdiction of the Commission.

These filings are on file with Commission and open to public inspection. They may be viewed on the web at http://www.ferc.gov using the “eLibrary” link. Enter the docket number excluding the last three digits in the docket number field to access the document. There is also an “eSubscription” link on the Web site that enables subscribers to receive e-mail notification when a document is added to a subscribed docket(s). For assistance, please contact FERC Online Support at FERCOnlineSupport@ferc.gov or toll free at (866) 208-3676, or TTY, contact (202) 502-8659.

Any questions regarding the applications should be directed to David J. Ries, President, Missouri Interstate Gas, LLC, 110 Algana Court, St. Peters, Missouri, 63376; Phone (636) 926-3668.

Docket No. CP06-407-000 is assigned to the requests to authorize facilities acquisition and operation, for approval for the provision of interstate natural gas transportation services and for the approval of abandonments. Docket No. CP06-408-000 is assigned to the part 157, subpart F blanket certificate request and Docket No. CP06-409-000 is assigned to the part 284, subpart G blanket certificate request.

The Applicants state that upon implementation of the mergers, if approved under the requested authorizations, their proposal will expand access to the interstate gas transportation grid for the Applicants' customers on standardized terms and conditions, make such grid more efficient, offer better supply and pricing options, facilitate future pipeline expansions within and outside the State of Missouri, and establish a single regulatory forum at the Commission to review any expansions and new services proposed in the future and to set a single rate for service on the new system.

The Applicants state that their proposed acquisition of the facilities and the integration of the Applicants' assets into a single interstate pipeline system will allow the Applicants to provide open access, non-discriminatory transportation consistent with the NGA and the Commission's regulations and policies. As an integrated interstate company, the Applicants say that the proposed Missouri Gas will be better able to serve Missouri and Illinois customers and respond to interstate demand, particularly in Illinois. In addition, the Applicants say that consolidation of the companies will eliminate inefficiencies, enabling Missouri Gas to improve service to existing and potential new customers.

Specifically, the Applicants seek the Commission's authorization for: (1) Missouri Interstate to abandon its tariff and services and to abandon its facilities by transfer to Missouri Pipeline; (2) Missouri Pipeline to acquire and operate as part of its existing system, all of Missouri Interstate's facilities; and (3) Missouri Pipeline to subsequently abandon by transfer, and Missouri Gas to acquire and operate as part of its existing system, all of the facilities of Missouri Pipeline, upon Missouri Pipeline's commencement of interstate service.

In addition, Applicants request: (1) Issuance of a blanket certificate of public convenience and necessity under part 284, subpart G of the Commission's regulations to Missouri Gas, authorizing it to provide open access interstate transportation services to the Applicants' existing transportation customers and to potential new customers located inside and outside the State of Missouri, and a determination that Missouri Gas's proposed initial firm and interruptible rates are in the public interest; (2) issuance of a blanket certificate of public convenience and necessity under part 157, subpart F of the Commission's regulations to Missouri Gas authorizing certain routine construction and operation activities and abandonment; and (3) approval of the initial rates and pro forma tariff proposed herein along with acceptance of Applicants' existing service agreements as non-conforming service agreements.

The Applicants state that as a result of these transactions, all of the facilities currently owned and operated individually by Missouri Interstate and Missouri Pipeline prior to the transactions will be owned and operated by Missouri Gas. They promise that no later than 18 months after the integrated Missouri Gas commences operations pursuant to the Commission issued certificates proposed in these proceedings, Missouri Gas will file a rate case to establish just and reasonable rates under section 4 of the NGA to replace the initial rates requested for approval in these proceedings.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicants. On or before the comment date, it is not necessary to serve motions to intervene or protests on persons other than the Applicants.

The Commission encourages electronic submission of protests and interventions in lieu of paper using the “e-Filing” link at http://www.ferc.gov. Persons unable to file electronically should submit an original and 14 copies of the protest or intervention to the Federal Energy Regulatory Commission, 888 First Street, NE., Washington, DC 20426.

Comment Date: 5 p.m. Eastern Time on July 26, 2006.

Magalie R. Salas,
Secretary.

[FR Doc. E6-11176 Filed 7-13-06; 8:45 am]

BILLING CODE 6717-01-P